DEPARTMENT OF THE INTERIOR

Bureau of Land Management

[MTM 91063]

Notice of Proposed Withdrawal and Opportunity for Public Meeting; Montana

AGENCY: Bureau of Land Management, Interior.

ACTION: Notice.

SUMMARY: The U.S. Department of Agriculture, Forest Service, has filed an application to withdraw approximately 2,173 acres of National Forest System lands to protect the lands during completion of reclamation activities. This notice closes the lands for up to 2 years from location and entry under the United States mining laws. The lands will remain open to all activities currently consistent with applicable Forest plans and those related to exercise of valid existing rights.

DATES: Comments and requests for a public meeting must be received by December 24, 2001.

ADDRESSES: Comments and meeting requests should be sent to the Forest Supervisor, Beaverhead-Deerlodge National Forest, 420 Barrett Street, Dillon, Montana 59725-3572.

FOR FURTHER INFORMATION CONTACT: Dan Avery, Beaverhead-Deerlodge National Forest, 420 Barrett Street, Dillon, Montana 59725-3572, 406-494-0269.

SUPPLEMENTARY INFORMATION: On July 17, 2001, the Forest Service filed an application to withdraw the following-described National Forest System lands from location and entry under the United States mining laws, but not the mineral leasing laws, subject to valid existing rights:

Principal Meridian, Montana

Beaverhead-Deerlodge National Forest

Basin Creek Mine (approximately 1,456 acres)—

T. 8 N., R. 5 W.,

Sec. 19, lots 7, 10, 12, and 15;

Sec. 30, lots 7 and 17.

T. 8 N., R. 6 W.,

Sec. 24, lot 11;

Sec. 25, lots 1 to 7, inclusive;

Sec. 26, lots 4, 5, and 7, SE¼SW¼, and SW¼SE¼;

Sec. 35, lots 1, 4, 5, and 6;

Sec. 36, lots 3 and 4.

Beal Mountain Mine (716.59 acres)—

T. 2 N., R. 10 W.,

Sec. 5, N½NE¼ and W½, excluding Patent Nos. 532788, 4955, 562258, and 535541;

Sec. 6, E½, E½NW¼, and NE¼SW¼, excluding Patent Nos. 433087, 535541, 562258, and 881285.

T. 3 N., R. 10 W.,

Sec. 31, SE¼NE¼, SE¼SW¼, and SE¼;

Sec. 32, W½NE¼, W½, and SE¼, excluding Patent No. 532788.

The areas described aggregate approximately 2,173 acres in Silver Bow, Jefferson, Powell, and Lewis and Clark Counties, Montana.

For a period of 90 days from the date of publication of this notice, all persons who wish to submit comments, suggestions, or objections in connection with the proposed withdrawal may present their views in writing to the Forest Supervisor, Beaverhead-Deerlodge National Forest, at the address indicated above.

Notice is hereby given that an opportunity for a public meeting is afforded in connection with the proposed withdrawal. All interested persons who desire a public meeting for the purpose of being heard on the proposed withdrawal must submit a written request to the Forest Supervisor at the address indicated above within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date. The temporary land uses which may be permitted during this segregative period include all activities currently consistent with applicable Forest plans and those related to exercise of valid existing rights.

Dated: July 31, 2001.
Thomas P. Lonnie,
Deputy State Director, Division of Resources.

[FR Doc. 01-23736 Filed 9-21-01; 8:45 am]

BILLING CODE 3410-11-P